NATIONAL SCIENCE FOUNDATION

Proposal Review Panel for Physics Notice of Meeting

In accordance with the Federal Advisory Committee Act (Pub. L. 92-463, as amended), the National Science Foundation (NSF) announces the following meeting:

Name and Committee Code: STC Cornell Site Visit Review for the Division of Physics (#1208).

Date and Time: September 10, 2018; 7:00 p.m.-8:00 p.m.; September 11, 2018; 8:15 a.m.-6:00 p.m.; September 12, 2018; 8:00 a.m.-4:00 p.m.

Place: Cornell University, Physics Building, Ithaca, New York 14850.

Type of Meeting: Part-Open.

Contact Person: Dr. James Whitmore, Program Director, Division of Physics, National Science Foundation, 2415 Eisenhower Avenue, Room W 9217, Alexandria, VA 22314; Telephone: (703) 292-8908.

Purpose of Meeting: Site visit to provide an evaluation of the progress of the project at the host site for the Division of Physics at the National Science Foundation.

Agenda

September 10, 2018

7:00 p.m.-8:00 p.m. NSF Executive Session (CLOSED)

September 11, 2018

8:15 a.m.-10:20 a.m. Welcome and brief introductions (STC Director introduces the center leadership team and, if present, university administrators): Overview of the center (20 min presentation, 10 min Q&A); Center organization and management (20 min presentation, 10 min Q&A): Building center's culture, including strategic planning (35 min presentation, 15 min Q&A) (OPEN)

10:20 a.m.-10:50 a.m. Break for center participants/NSF Executive Session (20 min) (CLOSED)

10:50 a.m.-12:05 p.m. Research: Goals/optimal outcomes and targets/milestones per strategic plan/Accomplishments to date (50 min presentation, 25 min Q&A) (OPEN)

12:05 p.m.-1:10 p.m. Lunch

1:10 p.m.-2:10 p.m. Research—continue (40 min presentation, 20 min Q&A) (OPEN)

2:10 p.m.-2:40 p.m. Break for center participants/NSF Executive Session (20 min) (CLOSED)

2:40 p.m.-4:30 p.m. Integration with education, diversity and knowledge transfer: Goals/optimal outcomes and targets/milestones per strategic plan/Accomplishments to date (60 min presentation, 30 min Q&A) (OPEN)

4:30 p.m.-6:00 p.m. NSF Executive Session/Break for center participants, Critical feedback with a list of questions that require clarification to the center leadership team (CLOSED)

September 12, 2018

8:00 a.m.-12:00 p.m. Meeting with university administrators (without any STC participants)/Institutional support (CLOSED)

12:00 p.m.-1:00 p.m. Lunch

1:00 p.m.-2:00 p.m. STC's response to the critical feedback (OPEN)

2:00 p.m.-4:00 p.m. Panelists prepare the site visit report (CLOSED)

Reason for Closing: The work being reviewed during closed portions of the site visit include information of a proprietary or confidential nature, including technical information; financial data, such as salaries and personal information concerning individuals associated with the project. These matters are exempt under 5 U.S.C. 552b(c), (4) and (6) of the Government in the Sunshine Act.

Dated: August 20, 2018.
Crystal Robinson,
Committee Management Officer.

[FR Doc. 2018-18258 Filed 8-22-18; 8:45 am]

BILLING CODE 7555-01-P